DEPARTMENT OF COMMERCE

National Oceanic and Atmospheric Administration

Agency Information Collection Activities; Submission to the Office of Management and Budget (OMB) for Review and Approval; Comment Request; West Coast Region Trawl Logbook Requirement

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on February 11, 2022 during a 60-day comment period. This notice allows for an additional 30 days for public comments.

Agency: National Oceanic & Atmospheric Administration (NOAA), Commerce.

Title: West Coast Region Trawl Logbook Requirement.

OMB Control Number: 0648-0782.

Form Number(s): None.

Type of Request: Regular Submission (extension of a currently approved collection).

Number of Respondents: 27.

Average Hours per Response: 8 hours.

Total Annual Burden Hours: 648 hours.

Needs and Uses: This request is a renewal of an existing package. The success of fisheries management programs depends significantly on the availability of fishery data. Currently, the states of Washington, Oregon, and California administer a trawl logbook on behalf of the Pacific Fishery Management Council (Council) and NOAA's National Marine Fisheries Service (NMFS). The log used is a standard format developed by the Council to collect information necessary to effectively manage the fishery on a coast-wide basis. The trawl logbook collects haul-level effort data including tow time, tow location, depth of catch, net type, target strategy, and estimated pounds of fish retained per tow. Each trawl log represents a single fishing trip. The state of California repealed their requirement, effective April 1, 2019, therefore, NMFS created a federal requirement in order to maintain logbook coverage from trawl vessels in California.

This federal requirement duplicates the logbook structure and process that the state of California was using in order to minimize disruption or confusion for fishery participants. Under this rule, NMFS contracts with the Pacific States Marine Fisheries Commission (PSMFC) to distribute and collect the same logbook these fishermen were using previously. These data are used regularly by NMFS, the Pacific Fishery Management Council, the West Coast Groundfish Observer Program, NMFS Office of Law Enforcement, and the Coast Guard for fisheries management and enforcement.

Affected Public: Business or other for-profit organizations.

Frequency: Monthly.

Respondent's Obligation: Mandatory.

Legal Authority: The regulations at § 660.13(a)(1) specify reporting requirements for vessels using trawl gear in a state without a state requirement for the completion and submission of a trawl logbook.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0782.

Sheleen Dumas,
Department PRA Clearance Officer, Office of the Chief Information Officer, Commerce Department.

[FR Doc. 2022-12442 Filed 6-8-22; 8:45 am]

BILLING CODE 3510-22-P